FEDERAL MINE SAFETY AND HEALTH REVIEW COMMISSION

Sunshine Act Meeting

October 22, 2003.

Time and Date: 10 a.m., Wednesday, October 29, 2003.

Place: Hearing Room, 9th Floor, 601 New Jersey Avenue, NW., Washington, DC.

Status: Open.

Matters To Be Considered: The Commission will consider and act upon the following in open session:

Secretary of Labor on behalf of Ondreako v. Kennecott Utah Copper Corp., Docket No. WEST 2003-403-DM. (At issue is whether the judge erred in finding that the discrimination complaint underlying Ondreako's application for temporary reinstatement under 30 U.S.C. 815(c)(2) was not frivolous brought.)

Any person attending this meeting who requires special accessibility features and/or auxiliary aids, such as sign language interpreters, must inform the Commission in advance of those needs. Subject to 29 CFR 2706.150(a)(3) and 2706.160(d).

FOR FURTHER INFORMATION CONTACT: Jean Ellen (202) 434-9950/(202) 708-9300 for TDD Relay/1-800-877-8339 for toll free.

Jean H. Ellen,
Chief Docket Clerk.

[FR Doc. 03-27362 Filed 10-27-03; 12:36 pm]

BILLING CODE 6735-01-M